Title 3—

The President

Executive Order 13478 of November 18, 2008

Amendments To Executive Order 9397 Relating To Federal Agency Use of Social Security Numbers

By the authority vested in me as President by the Constitution and laws of the United States of America, it is hereby ordered as follows:

Section 1. Policy. It is the policy of the United States that Federal agencies should conduct agency activities that involve personal identifiers in a manner consistent with protection of such identifiers against unlawful use.

Sec. 2. Amendments to Executive Order 9397. Executive Order 9397 of November 22, 1943, is amended:

(a) in paragraph 1 by:

(i) striking “shall” and inserting in lieu thereof “may”;

(ii) striking “exclusively”;

(iii) striking “Title 26, section 402.502” and inserting in lieu thereof “title 20, section 422.103”; and

(iv) striking “the 1940 Supplement to”;

(b) by striking “Bureau of the Budget” in paragraph 5 and inserting in lieu thereof “Office of Management and Budget”;

(c) by renumbering paragraph 6 as paragraph 8;

(d) by inserting immediately following paragraph 5 the following new paragraphs:

“6. This order shall be implemented in accordance with applicable law and subject to the availability of appropriations.

“7. This order is not intended to, and does not, create any right or benefit, substantive or procedural, enforceable at law or in equity, by any party against the United States, its departments, agencies, instrumentalities, or entities, its officers, employees, or agents, or any other person.”; and

(e) by striking “Board” each place it appears and inserting in lieu thereof in each such place “Administration”.

Sec. 3. This order is not intended to, and does not, create any right or benefit, substantive or procedural, enforceable at law or in equity, by any party against the United States, its departments, agencies, instrumentalities, or entities, its officers, employees, or agents, or any other person.

THE WHITE HOUSE,

November 18, 2008.

[FR Doc. E8-27771

Filed 11-19-08; 8:45 am]

Billing code 3195-W9-P